DEPARTMENT OF JUSTICE

Drug Enforcement Administration

[Docket No. DEA-392]

Importer of Controlled Substances Application: Arizona Department of Corrections

ACTION: Notice of application.

DATES: Registered bulk manufacturers of the affected basic class, and applicants therefore, may file written comments on or objections to the issuance of the proposed registration or the proposed authorization to import on or before January 14, 2019. Such persons may also file a written request for a hearing on the application for registration and for authorization to import on or before January 14, 2019.

ADDRESSES: Written comments should be sent to: Drug Enforcement Administration, Attention: DEA Federal Register Representative/DPW, 8701 Morrissette Drive, Springfield, Virginia 22152. All requests for hearing must be sent to: Drug Enforcement Administration, Attn: Administrator, 8701 Morrissette Drive, Springfield, Virginia 22152. All requests for hearing should also be sent to: (1) Drug Enforcement Administration, Attn: Hearing Clerk/OALJ, 8701 Morrissette Drive, Springfield, Virginia 22152; and (2) Drug Enforcement Administration, Attn: DEA Federal Register Representative/DPW, 8701 Morrissette Drive, Springfield, Virginia 22152.

SUPPLEMENTARY INFORMATION: Pursuant to 21 U.S.C. 958(i), the Attorney General shall, prior to issuing a regulation under 21 U.S.C. 952(a)(2)(B) authorizing the importation of a controlled substance in schedule I or II, provide manufacturers holding registrations for the bulk manufacture of the substance an opportunity for a hearing. Additionally, pursuant to 21 CFR 1301.34(a), the Administrator of the Drug Enforcement Administration (DEA) shall, upon the filing of an application for registration to import a controlled substance in schedule I or II under 21 U.S.C. 952(a)(2)(B), provide notice and the opportunity to request a hearing to manufacturers holding registrations for the bulk manufacture of the substance and to applicants for such registrations.

The Attorney General has delegated his authority under the Controlled Substances Act,¹ including the provisions codified at 21 U.S.C. 952 and 958, to the DEA Administrator, 28 CFR 0.100(b). Authority to exercise all necessary functions with respect to the promulgation and implementation of 21 CFR part 1301, incident to the registration of manufacturers, distributors, dispensers, importers, and exporters of controlled substances (other than final orders in connection with suspension, denial, or revocation of registration) has been delegated to the Assistant Administrator of the DEA Diversion Control Division (“Assistant Administrator”) pursuant to section 7 of 28 CFR part 0, appendix to subpart R.

¹ The provisions of federal law relating to the import and export of controlled substances—those found in 21 U.S.C. 951 through 971—are more precisely referred to as the Controlled Substances Import and Export Act. However, federal courts and DEA often use the term “Controlled Substances Act” to refer collectively to all provisions from 21 U.S.C. 801 through 971 and, for ease of exposition, this document will do likewise.

Therefore, in accordance with 21 U.S.C. 958(i) and 21 CFR 1301.34(a), this is notice that on June 11, 2018, Arizona Department of Corrections, 1305 E Butte Avenue, ASPC-Florence, Florence, Arizona 85132-9221, re-applied to be registered as an importer of Pentobarbital (2270), a basic class of the controlled substance listed in schedule II.

The facility intends to import the above-listed controlled substance for legitimate use. This particular controlled substance is not available for the intended legitimate use within the current domestic supply of the United States.

Any bulk manufacturer who is presently, or is applying to be, registered with DEA to manufacture this basic class of controlled substance may file comments or objections to the issuance of the proposed registration or to the authorization of this importation, and may, at the same time, file a written request for a hearing. Any such comments, objections, or hearing requests should be addressed as described above.

Dated: December 4, 2018.
John J. Martin,
Assistant Administrator.

[FR Doc. 2018-27131 Filed 12-13-18; 8:45 am]

BILLING CODE 4410-09-P